NATIONAL SCIENCE FOUNDATION

Notice of permit applications received under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 14, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant

Permit Application: 2016-019

Dr. Diana H. Wall, School of Global Environmental Sustainability, Colorado State University, Fort Collins, CO 80523-1036.

Activity for Which Permit Is Requested

ASPA entry, Import. Applicant wishes to enter Cape Royds ASPA 121 to collect soil samples and associated invertebrates as well as benthic algal mats and underlying soil. This project follows up on several past surveys of orthinogenic soils conducted in this ASPA which examined invertebrate genetic distribution, and also explores the influence of climate change on soil invertebrate populations. The algae sampling is to also follow up on previous surveys, to examine the temporal stability of lake algal communities in the region. Soil samples of approximately 600 grams each would be collected at up to 30 sites within the ASPA using sterile collecting techniques. For benthic algae, at 6 sites along the shore of Poly Lake, the applicant and team would use a sanitized 2 cm copper coring apparatus to collect, by hand, 4 replicates of surface algal mats and 1-2 cm of underlying sediment. Samples would be transported back to the US for further study.

Location

ASPA 121 Cape Royds

Dates

January 1, 2016 to February 15, 2016

Nadene G. Kennedy,
Polar Coordination Specialist, Division of Polar Programs.

[FR Doc. 2015-28799 Filed 11-12-15; 8:45 am]

BILLING CODE 7555-01-P